FEDERAL MARITIME COMMISSION

Notice of Agreement Filed

The Commission hereby gives notice of the filing of the following agreement under the Shipping Act of 1984. Interested parties may submit comments on the agreements to the Secretary, Federal Maritime Commission, Washington, DC 20573, within twelve days of the date this notice appears in the Federal Register. Copies of the agreement are available through the Commission's Web site (www.fmc.gov) or by contacting the Office of Agreements at (202)-523-5793 or tradeanalysis@fmc.gov.

Agreement No.: 012103-003.

Title: CMA CGM/CSAV Victory Bridge Vessel Sharing Agreement.

Parties: CMA CGM, S.A. and Compania Sud American de Vapores S.A.

Filing Party: Kristi L. Hunter, Esq.; Associate General Counsel; CMA CGM (America) LLC; 5701 Lake Wright Drive; Norfolk, VA 23502.

Synopsis: The amendment increases CMA CGM's slot allocation, revises the number of vessels contributed by each party, and adds Savannah to the expected port rotation.

Dated: May 30, 2014.
By Order of the Federal Maritime Commission.
Rachel E. Dickon,
Assistant Secretary.

[FR Doc. 2014-12920 Filed 6-3-14; 8:45 am]

BILLING CODE 6730-01-P